COMMISSION ON CIVIL RIGHTS

Agenda and Notice of Public Meeting of the Rhode Island State Advisory Committee

Notice is hereby given, pursuant to the provisions of the rules and regulations of the U.S. Commission on Civil Rights, that a planning meeting of the Rhode Island State Advisory Committee will convene at 12:30 p.m. and adjourn at 3 p.m. on Thursday, July 20, 2006 at the law offices of Tillinghast Licht at 10 Weybosset Street in Providence, Rhode Island. The purpose of the meeting is for the committee to review the transcript and summaries of its May briefing on the disparate treatment of minority youth in the education and justice systems in Rhode Island and to plan future work products and potential briefings.

Persons desiring additional information should contact Barbara de La Viez of the Eastern Regional Office, 202-376-7533 (TTY 202-376-8116). Hearing impaired persons who will attend the meeting and require the services of a sign language interpreter should contact the Eastern Regional Office at least 5 (five) working days before the scheduled date of the planning meeting. It was not possible to publish this notice 15 days in advance of the meeting date because of internal processing delays.

The meeting will be conducted pursuant to the provisions of the rules and regulations of the Commission.

Dated at Washington, DC, June 23, 2006.
Ivy L. Davis,
Acting Chief, Regional Programs Coordination Unit.

[FR Doc. E6-10240 Filed 6-28-06; 8:45 am]

BILLING CODE 6335-01-P